DEPARTMENT OF TRANSPORTATION

Federal Aviation Administration

14 CFR Part 71

Docket No. FAA-2023-0534; Airspace Docket No. 21-AWP-52

RIN 2120-AA66

Amendment of V-388 Near Paradise, CA

AGENCY: Federal Aviation Administration (FAA), DOT.

ACTION: Notice of proposed rulemaking (NPRM).

SUMMARY: This action proposes to amend the Very High Frequency (VHF) Omnidirectional Range (VOR) Federal airway V-388 between the Paradise, CA, VOR/Tactical Air Navigation (VORTAC) and the Palm Springs, CA, VORTAC navigational aids. The FAA is proposing this action to extend V-388 westward to the Seal Beach, CA, VORTAC.

DATES: Comments must be received on or before May 26, 2023.

ADDRESSES: Send comments identified by FAA Docket No. [FAA-2023-0534] and Airspace Docket No. 21-AWP-52 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Steven Roff, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the airway structure as necessary to preserve the safe and efficient flow of air traffic within the National Airspace System.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Western Service Center, Federal Aviation Administration, 2200 South 216th St., Des Moines, WA 98198.

Incorporation by Reference

VOR Federal Airways are published in paragraph 6010 of FAA Order JO 7400.11, Airspace Designations and Reporting Points, which is incorporated by reference in 14 CFR 71.1 on an annual basis. This document proposes to amend the current version of that order, FAA Order JO 7400.11G, dated August 19, 2022 and effective September 15, 2022. These updates would be published in the next update to FAA Order JO 7400.11. That order is publicly available as listed in the ADDRESSES section of this document.

FAA Order JO 7400.11G lists Class A, B, C, D, and E airspace areas, air traffic service routes, and reporting points.

Background

FAA proposes to extend V-388 westward from the Paradise VORTAC to the Seal Beach VORTAC following the standard route to enhance safety. The standard routing used by air traffic control (ATC) and issued to aircraft flying between the Paradise VORTAC and the Seal Beach VORTAC is from the Paradise VORTAC northwest along the Paradise VORTAC 285°(T)/270°(M) radial to the DOWDD Fix, then southwest along the Pomona, CA, VORTAC 202°(T)/187°(M) radial to the AHEIM Fix, then westward to the Seal Beach VORTAC. The airspace in which this extension would transition is highly congested and equally complex. To mitigate potential safety risks while maintaining the highest level of efficiency as possible, the controlling ATC facilities have devised specific traffic flows and utilize the standard routing noted previously. This extension of V-388 would overlap the routing issued to aircraft today, reduce ATC and pilot computer entries, simplify ATC clearances, and reduce the workload of pilots and aviators thus enhancing aviation safety as a whole.

The Proposal

The FAA is proposing an amendment to 14 CFR part 71 to extend V-388 westward beyond the Paradise, CA, VORTAC to the Seal Beach, CA, VORTAC. This action would incorporate the standard routing used by ATC into the VOR Federal airways enroute structure to preserve the safe and efficient flow of air traffic in southern CA. The proposed extension is described below.

V-388: V-388 currently extends between the Paradise, CA, VORTAC and the Palm Springs, CA, VORTAC. The FAA proposes to extend the airway westward from the Paradise, CA, VORTAC to the Seal Beach, CA, VORTAC. The proposed extension would extend from the Paradise VORTAC to the intersection of the Paradise VORTAC 285°(T)/270°(M) and Pomona, CA, VORTAC 202°(T)/187°(M) radials (DOWDD Fix), then to the intersection of the Pomona, CA, VORTAC 202°(T)/187°(M) and Seal Beach, CA, VORTAC 073°(T)/058°(M) radials (AHEIM Fix), then to the Seal Beach, CA, VORTAC. As amended, the airway would extend between the Seal Beach VORTAC and the Palm Springs VORTAC.

Existing NAVAID radials in the V-388 description below are unchanged and stated in degrees True north. New intersection NAVAID radials are stated in degrees True north (T)/Magnetic north (M).

VOR Federal airways are published in paragraph 6010(a) of FAA Order JO 7400.11G, dated August 19, 2022, and effective September 15, 2022, which is incorporated by reference in 14 CFR 71.1. The V-388 airway action listed in this document would be published subsequently in FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6010(a) Domestic VOR Federal Airways.

* * * * *

V-388 [Amended]

From Seal Beach, CA; INT Seal Beach 073° and Pomona, CA, 202° radials; INT Pomona 202° and Paradise, CA, 285° radials; Paradise; INT Paradise, CA 087° and Palm Springs, CA, 287° radials; to Palm Springs.

* * * * *

Issued in Washington, DC, on April 3, 2023.
Brian Konie,
Acting Manager, Airspace Rules and Regulations.

[FR Doc. 2023-07544 Filed 4-10-23; 8:45 am]

BILLING CODE 4910-13-P